DEPARTMENT OF COMMERCE

International Trade Administration

A-449-804, A-455-803, A-560-811, A-570-860, A-822-804, A-823-809, A-841-804

Steel Concrete Reinforcing Bars From Belarus, the People's Republic of China, Indonesia, Latvia, Moldova, Poland, and Ukraine: Continuation of the Antidumping Duty Orders

AGENCY: Enforcement and Compliance, International Trade Administration, Department of Commerce.

SUMMARY: As a result of the determinations by the Department of Commerce (Commerce) and the International Trade Commission (ITC) that revocation of the antidumping duty (AD) orders on steel concrete reinforcing bars (rebar) from Belarus, the People's Republic of China (China), Indonesia, Latvia, Moldova, Poland, and Ukraine would likely lead to a continuation or recurrence of dumping and material injury to an industry in the United States, Commerce is publishing a notice of continuation of the AD orders.

DATES: Applicable December 17, 2018.

FOR FURTHER INFORMATION CONTACT: Keith Haynes, AD/CVD Operations, Office III, Enforcement and Compliance, International Trade Administration, U.S. Department of Commerce, 1401 Constitution Avenue NW, Washington, DC 20230; telephone: (202) 482-5139.

SUPPLEMENTARY INFORMATION:

Background

On June 1, 2018, Commerce published the notice of initiation of the third sunset reviews of the Orders ¹ on rebar from Belarus, China, Indonesia, Latvia, Moldova, Poland, and Ukraine, pursuant to section 751(c)(2) of the Tariff Act of 1930, as amended (the Act).² As a result of its reviews, Commerce determined that revocation of the Orders on rebar from Belarus, China, Indonesia, Latvia, Moldova, Poland, and Ukraine would likely lead to the continuation or recurrence of dumping.³ Commerce, therefore, notified the ITC of the magnitude of the margins of dumping likely to prevail were the Orders revoked.⁴

¹ See Antidumping Duty Orders: Steel Concrete Reinforcing Bars from Belarus, Indonesia, Latvia, Moldova, People's Republic of China, Poland, Republic of Korea and Ukraine, 66 FR 46777 (September 7, 2001) (Orders).

² See Initiation of Five-Year (Sunset) Reviews, 83 FR 25436 (June 1, 2018).

³ See Steel Concrete Reinforcing Bars from Belarus, the People's Republic of China, Indonesia, Latvia, Moldova, Poland, and Ukraine: Final Results of Expedited Third Sunset Reviews of the Antidumping Duty Orders, 83 FR 50344 (October 5, 2018), and accompanying Issues and Decision Memorandum (Rebar 2018 Sunset Final).

⁴ Id.

On December 7, 2018, the ITC published its determinations, pursuant to sections 751(c) and 752 of the Act, that revocation of the Orders on rebar from Belarus, China, Indonesia, Latvia, Moldova, Poland, and Ukraine would likely lead to continuation or recurrence of material injury to an industry in the United States within a reasonably foreseeable time.⁵

⁵ See Steel Concrete Reinforcing Bars from Belarus, the People's Republic of China, Indonesia, Latvia, Moldova, Poland, and Ukraine: Final Results of Expedited Third Sunset Reviews of the Antidumping Duty Orders; Determination, 83 FR 63188 (December 7, 2018).

Scope of the Orders

The product covered by the orders is all steel concrete reinforcing bars sold in straight lengths, currently classifiable in the Harmonized Tariff Schedule of the United States (HTSUS) under item numbers 7214.20.00, 7228.30.8050, 7222.11.0050, 7222.30.0000, 7228.60.6000, 7228.20.1000, or any other tariff item number. Specifically excluded are plain rounds (i.e., non-deformed or smooth bars) and rebar that has been further processed through bending or coating.⁶

⁶ Id.

Continuation of the Orders

As a result of the determinations by Commerce and the ITC that revocation of the Orders would likely lead to a continuation or a recurrence of dumping and material injury to an industry in the United States, pursuant to section 751(d)(2) of the Act and 19 CFR 351.218(a), Commerce hereby orders the continuation of the Orders on rebar from Belarus, China, Indonesia, Latvia, Moldova, Poland, and Ukraine. U.S. Customs and Border Protection will continue to collect AD cash deposits at the rates in effect at the time of entry for all imports of subject merchandise.

The effective date of the continuation of the Orders will be the date of publication in the Federal Register of this notice of continuation. Pursuant to section 751(c)(2) of the Act, Commerce intends to initiate the next five-year reviews of these orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

These sunset reviews and notice are in accordance with sections 751(c), 752, and published pursuant to 777(i)(1) of the Act and 19 CFR 351.218(f)(4).

Dated: December 11, 2018.
Christian Marsh,
Deputy Assistant Secretary for Enforcement and Compliance.

[FR Doc. 2018-27239 Filed 12-14-18; 8:45 am]

BILLING CODE 3510-DS-P